DEPARTMENT OF JUSTICE

Immigration and Naturalization Service

8 CFR Parts 212, 214, 248 and 274a

[INS No. 2000-99]

RIN 1115-AF51

Irish Peace Process Cultural and Training Program

AGENCY: Immigration and Naturalization Service, Justice.

ACTION: Interim rule with request for comments.

SUMMARY: The Irish Peace Process Cultural and Training Program allows visitors from Northern Ireland and certain designated counties in the Republic of Ireland to come to the United States temporarily for training, for employment, and to experience coexistence and conflict resolution in a diverse society. This rule amends the regulations of the Immigration and Naturalization Service (Service) by establishing procedures for implementing the Irish Peace Process Cultural and Training Program. This program is designed to provide a peaceful and cooperative environment in which these temporary visitors from various backgrounds can develop the necessary job skills to aid in the economic regeneration of their region.

EFFECTIVE DATE: This interim rule is effective March 17, 2000.

Comment Date: Written comments must be received on or before May 16, 2000.

ADDRESSES: Please submit written comments, in triplicate, to the Director, Policy Directives and Instructions Branch, Immigration and Naturalization Service, 425 I Street, NW, Room 5307, Washington, DC 20536. To ensure proper handling, please reference INS No. 2000-99 on your correspondence. Comments are available for public inspection by calling (202) 514-3048 to arrange for an appointment.

FOR FURTHER INFORMATION CONTACT: Donna N. Crump, Adjudications Officer, Business and Trade Services Branch, Adjudications Division, Immigration and Naturalization Service, 425 I Street, NW, Room 3214, Washington, DC 20536, telephone (202) 616-7445.

SUPPLEMENTARY INFORMATION:

Background

What is Q-2 classification?

The Q-2 classification is established to identify principal participants in the Irish Peach Process Cultural and Training Program.

How did this change in the Q classification originate?

Legislation to create the Irish Peace Process Cultural and Training Program Act of 1998 (IPPCTPA) was introduced in July 1998 by Congressman James Walsh of New York. The IPPCTPA supports the peace process by offering young people from Northern Ireland and the border counties of the Republic of Ireland who have been subjected to decades of sectarian conflict the opportunity to come to the United States temporarily to gain valuable work skills and to experience a multi-cultural environment. This program is designed to provide these young people from different communities with the necessary economic and cultural training to start the process of rebuilding a working, civil society in their home countries. On October 30, 1998, President Clinton signed into law the Irish Peace Process Cultural and Training Program Act of 1998, Pub. L. 105-319.

What Are the Provisions of the IPPCTPA?

This legislation requires that the Secretary of State and the Attorney General establish a program that permits, for each of 3 consecutive years, the annual entry of not more than 4,000 visitors from Northern Ireland and certain designated counties in the Republic of Ireland to participate in training, work, and conflict resolution activities. The participants are to be under 36 years of age and reside in designated areas which have suffered from sectarian violence and high unemployment. This program is designed to help these visitors develop job skills and conflict resolution abilities in a diverse society so that when they return home they can help contribute to the economic rejuvenation of their region and promote the peace process. This program has three consecutive program years: Fiscal Years (FYs) 2000 (October 1, 1999, through September 30, 2000), 2001 (October 1, 2000, through September 30, 2001) and 2002 (October 1, 2001, through September 30, 2002). The participating individuals may remain in the United States for up to 36 months, and spouses and minor children of the principal alien may accompany or follow-to-join the principal alien program participant. The IPPCTPA requires the Service to reduce by one the number of H-2B nonimmigrants admitted for every individual admitted under this program. On October 1, 2005, the provisions of this Public Law are repealed.

What Are the Eligibility Criteria for Participation?

The legislation provides that any resident of Northern Ireland or the counties of Louth, Monaghan, Cavan, Leitrim, Sligo, and Donegal within the Republic of Ireland, who is 35 years of age or younger, is eligible to apply.

Following several working meetings between officials of the U.S. Department of State (DOS), the U.S. Immigration and Naturalization Service (Service), the Training and Employment Agency of Northern Ireland (T&EA), and the Training and Employment Authority of Ireland (FAS), eligibility requirements were further defined to meet the needs of Northern Ireland and the Republic of Ireland. For participation in this program, the candidate must be physically resident in either Northern Ireland or in the designated border counties of the Republic of Ireland for at least 3 months immediately preceding application to the program and be between the ages of 18 and 35 at the time of initial admission to the United States under the program. In addition, candidates must fall within one of the following two categories of persons:

(1) The first category consists of unemployed applicants: (a) who have been unemployed for at least 3 months, or (b) who have completed or are currently participating in a program of the T&A or of FAS or another publicly funded training and employment program. In addition, persons who have recently been made redundant in their employment (i.e., lost their job) or have received a notice of redundancy (termination of employment) may apply to the program immediately without having to wait 3 months after becoming unemployed.

(2) The second category in this program consists of persons who (a) are currently employed and (b) whose current employer has nominated them to participate in the program for additional training and/or job experience that will benefit both the employee and the employer upon that person's return to his or her prior employment.

The T&EA and FAS are responsible for identifying candidates to the program from the first category. The employers of individuals in the second category may nominate employees directly to the DOS' Program Administrator.

Why does this program have age limitations?

The maximum age of 35 is stipulated in the IPPCTPA. The minimum age of 18 is needed so that there is no conflict with child labor laws of individual U.S. States.

Do all individuals who successfully complete a training and employment program or who are recommended to the program by their employers automatically become program participants?

Nomination by the T&EA or FAS or recommendation by an employer for program participation is the first stage of the selection process. A U.S. employer, approved by the DOS, must also be willing to offer employment or training to such individuals. All candidates must then meet U.S. visa and immigration requirements. If no U.S. employer is interested in hiring a particular candidate or if any particular candidate is ineligible for either a U.S. visa or admission into the United States, then that individual is ineligible for participation in this program.

Is there any petition requirement?

There is no petition requirement for visitors under the Irish Peace Process Cultural and Training Program (IPPCTP). However, each candidate will be required to have a written certification from the DOS' Program Administrator indicating that he or she has been selected for participation in the IPPCTP prior to applying for a Q-2 visa.

How does a U.S. employer hire one of these indivduals?

A U.S. employer interested in employing and/or providing training to these candidates must be approved by the DOS in accordance with its regulations before a visa will be issued. Interested employers may contact the DOS' Program Administrator for details of the approval process. The Department of State has designated Logicon, Inc. of Northern Virginia as the Program Administrator for this program through September 30, 2000. Logicon may be reached at 1-877-925-7484 or via e-mail at logicon@walshvisa.net. Logicon's mailing address is Walsh Visa Program, Logicon, 1831 Weihle Avenue, Suite 100, Reston, Virginia 20190-5241. Logicon has established an Internet web site for this program: www.walshvisa.net.

Are there any restrictions on the type of employment permitted?

Employment must be in a field of endeavor that has been identified by governmental agencies in Northern Ireland and Ireland as one that will be useful to the economy of the region. The designated sectors currently include hospitality and tourism, customer service, information and communications technology, pharmaceuticals, engineering, sales, marketing and promotion, and furniture. The selection of additional sectors or the deletion of already identified sectors will occur upon the agreement of the DOS, with one or both of the training and employment agencies.

May the principal alien of this program bring family members?

The principal alien may bring his/her spouse and minor children to the United States. These family members may either travel with the principal alien to the United States or join him/her at a later date. They will be counted in the total annual number admitted to the United States under this program. The visa designation for eligible family members will be Q-3. All family members must depart the United States at the end of the principal alien's program. However, those spouses or minor children who do not wish to accompany or follow-to-join the principal alien, but desire only to briefly visit the principal alien in the United States, might wish to avail themselves of the visitors' visa waiver pilot program or obtain a visitor's visa (B-2).

Are program participants eligible for the visitor's visa waiver pilot program?

No, since the length of stay of these participants will be longer than 90 days, and thus exceeds the maximum length of stay available under the visa waiver pilot program. In addition, those individuals admitted under the visa waiver pilot program are not authorized to work. All principal aliens and any eligible family members in this program must have passports valid for the length of their U.S. stay and be issued either a Q-2 visa or a Q-3 visa prior to entering the United States. Applications for these visas may be made at either the U.S. Consulate in Belfast or at the U.S. Embassy in Dublin. These are the two posts that will be authorized to issue visas for this program.

What happens when those qualifying for participate in the program exceed the 4,000 annual admission limitation?

The DOS will be tracking the processing of Q-2 and Q-3 visas to ensure that no more than 4,000 visas are issued in each of the three program years. Should there be more candidates than visas available, those candidates without visas will have to wait until the next program year to participation in the IPPCTP.

May visitors already in the United States admitted under other nonimmigrant visa classifications change to a Q-2?

No, because visitors already in the United States would not meet one of the eligibility requirements, which stipulates that participation must be physically resident in either Northern Ireland or Ireland for at least 3 months immediately preceding application to the program.

Are family members able to work and go to school?

Family members entering the United States with a Q-3 visa under this program are not allowed to work. The spouse and minor children of the principal alien may attend school without violating their Q-3 status. Those spouses who are also principal participants and have been issued a Q-2 visa are eligible to work.

Will any documentation for employment authorization be issued?

All principal aliens will have their Forms I-94, Arrival-Departure Record, endorsed by an Immigration Inspector at the time of inspection. This endorsement will authorize their employment with a specific employer based on the certification from the DOS' Program Administrator. They will not be issued a separate employment authorization document (Form I-766).

Will the principal aliens have to pay taxes and contribute to Social Security?

The principal aliens are responsible for paying all applicable Federal, State, and local income taxes, employment and related taxes, as well as Social Security contributions on any salaries received.

How will training and conflict resolution activities be administered?

Training or conflict resolution activities offered to the principal aliens will be coordinated by the DOS' Program Administrator.

What organizations are cooperating on this program?

The DOS and the Service are working together with the T&EA and with FAS to make all potential participants aware of this program. These agencies have also encouraged nongovernmental organization to become involved.

Since the number of visas issued under this program reduces the number of H-2B visas available, what impact does the Service expect this program to have on the H-2B program?

The Service does not expect the Q-2 program to adversely affect the H-2B program. Since the establishment of numerical limitations for the H-2B classification in Fiscal Year 1992, the numerical limitation has not been reached. Based on the past demand for the H-2B classification, the Service expects sufficient visa numbers to be available for participants in both the H-2B program and the Q-2 program for the duration of the Q-2 program.

Why does the Service not process these participants under the H-2B program?

Congress specified that the IPPCTP should have a separate nonimmigrant visa classification. In addition, some training and employment that is permissible under this program may not qualify under the H-2B program.

How will the Service track program participants or overstays?

Service regulations at 8 CFR 25.1 require the participants to inform the Service of any address changes. This will be accomplished by requiring each participant to forward Form AR-11, Alien's Change of Address Card, to the Service through the DOS Program Administrator. The arrival and departure of all visitors to and from the United States in this program will be tracked through the use of Form I-94, Arrival-Departure Record. The Service will identify overstays through this tracking system. In addition, the DOS' Program Administrator will monitor the program activities of each individual participant and will be required to inform the Service of any Q-2 or Q-3 visa holder who is no longer participating in this program and those who have completed the program but not yet departed.

What will happen if a Q-2 or Q-3 visa holder remains in the United States beyond his/her authorized period of stay?

The intent of Public Law 105-319 is for the participants to return home to contribute to the economic regeneration of their region and to promote the peace process.

Several factors will provide a strong incentive for the participants in this program to return home. First, the DOS' Program Administrator will, with the training and employment agencies in the cooperating counties, assist each participant to identify specific job opportunities in his/her home area during the course of the participant's stay in the United States. Every effort will be made to ensure a job placement before the end of each participant's U.S. program. Second, any participant who is no longer in valid nonimmigrant status and remains in the United States or who remains in the United States beyond the 36-month period of admission, risks being put into removal proceedings by the Service along with other adverse immigration consequences, including penalties described in section 212(a)(9) of the Immigration and Nationality Act (Act).

What are the Service's reporting requirements for overstays under the Q-2 program?

The legislation requires the Service to compile and submit to Congress a report on the number of aliens admitted under section 101(a)(15)(Q)(ii) of the Act who have overstayed their visas. Such reports will be submitted to Congress at the end of the third program year and for each of the succeeding 3 years.

In providing these congressional reports, the Service will require the participants and their families to adhere to the 3-year stay limitations as set forth in the legislation. Their valid program time period will expire 3 years after the date of their initial admission, including any time spent outside the United States during the 3-year period of authorized stay. Additionally, any participant who remains outside the United States beyond three consecutive months will not be considered in valid program status. Such an individual will have to reapply to the program, should he/she wish to resume a Q-2 program activity, and will not be readmitted on the initial Q-2 visa.

In order to provide accurate reporting, the Service will confirm its overstay data with the DOS' Program Administrator. The Service will also maintain contact throughout the program with the U.S. Consulate in Belfast and the Consular section at the U.S. Embassy in Dublin, as well as with the T&EA and FAS to verify overstays.

Explanation of changes

How is the Service amending its regulations to implement Public Law 105-319?

This rule revises the original Q nonimmigrant classification by renumbering its paragraphs in § 214.2(q) and by changing the reference of “Q” to “Q-1” and its reference to the Act. However, this redesignation in no way alters the regulations or established procedures for participating in such a program. One technical change to these regulations was also made as a result of enactment of the Illegal Immigration Reform and Immigrant Responsibility Act of 1996 (IIRIRA), Public Law 104-208, 110 Stat. 3546, which recodified the deportation charge applicable to an alien who engages in unlawful employment and thereby violates his nonimmigrant status (formerly 241(a)(1)(C)(i) of the Act) at 237(a)(1)(C)(i) of the Act. In addition, an individual participating in a Q-1 program will now be referred to as an “international cultural exchange visitor.” The Service has removed any references to “cultural visitor” under the Q-1 program, as the term “cultural visitor” now refers to participants in both the Q-1 and Q-2 programs.

The Service is also revising the Q classification to add a paragraph addressing the new Q-2/Q-3 nonimmigrant classifications at § 214.2(q). Paragraphs have been added at 8 CFR parts 212, 248 and 274a concerning this new nonimmigrant classification.

Since no substantive changes have been made in the program to be redesignated as Q-1, written comments submitted to the Service regarding this interim rule should be confined to the implementing rules of the Q-2/Q-3 visa classifications.

The Service and the DOS are publishing simultaneously their respective rules on the Q-2 program. The two agencies have consulted with each other during the rulemaking process. (See the DOS' rules published elsewhere in this issue of the Federal Register.)

Good Cause Exception

The Service's implementation of this regulation as an interim rule, with a provision for post-promulgation public comments, is based upon the “good cause” exceptions found at 5 U.S.C. 553(b)(B) and (d)(3). The reason and necessity for issuing this regulation as an interim rule are as follows: (1) In order to provide for the addition of the new Q-2 classification, the original Q classification was renumbered and stylistic changes were made. The technical change correcting the citation to the appropriate deportation charge was necessitated by the recodification of that charge by the IIRIRA. None of these changes were substantive in nature. (2) There is not enough time to issue a proposed rule with request for comments because the initial group of IPPCTP participants is scheduled to arrive in the United States at the end of March 2000. Publication of this regulation as an interim rule will expedite implementation of Public Law 105-319 and allow eligible aliens to apply for and participate in this program as soon as possible in light of the statutory expiration of the program on October 1, 2005. Any delay in the publication of this interim rule will result in a significant delay in the start of the program which in turn will have a severely negative impact on the success of the program given that unused numbers in one program year cannot be carried over to the next.

Regulatory Flexibility Act

The Commissioner of the Immigration and Naturalization Service, in accordance with the Regulatory Flexibility Act (5 U.S.C. 605(b), has reviewed this regulation and, by approving it, certifies that this rule will not have a significant economic impact on a substantial number of small entities. Participation in the IPPCTP is limited to 4,000 individuals annually for three consecutive program years. This rule does not affect small entities as that term is defined in 5 U.S.C. 601(6).

Unfunded Mandates Reform Act of 1995

This rule will not result in the expenditure by State, local, and tribal governments, in the aggregate, or by the private sector, of $100 million or more in any 1 year, and it will not significantly or uniquely effect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

This rule is not considered by the Department of Justice, Immigration and Naturalization Service, to be a “significant regulatory action” under Executive Order (E.O.) 12866, section 3(f), Regulatory Planning and Review, and the Office of Management and Budget has therefore waived its review process under section 6(a)(3)(A).

Executive Order 13132

This regulation will not have substantial direct effects on the States, on the relationship between the National Government and the States, or on the distribution of power and responsibilities among the various levels of government. Therefore, in accordance with section 6 of Executive Order 13132, it is determined that this rule does not have sufficient federalism implications to warrant the preparation of a federalism summary impact statement.

Executive Order 12988 Civil Justice Reform

This interim rule meets the applicable standards set forth in sections 3(a) and 3(b)(2) of Executive Order 12988.

Paperwork Reduction Act

This rule does not impose any new reporting or recordkeeping requirements. The information collection requirements (Forms I-94 and AR-11) contained in this rule were previously approved for use by the Office of Management and Budget (OMB) under the Paperwork Reduction Act. The OMB control number for this collection is contained in 8 CFR 299.5, Display of control numbers.

List of Subjects

8 CFR Part 212

Administrative practice and procedure, aliens, Immigration, Passports and visas, reporting and recordkeeping.

8 CFR Part 214

Administrative practice and procedure, Aliens, Employment, Foreign officials, Health professions, Reporting and recordkeeping requirements, Students.

8 CFR Part 248

Aliens, Reporting and recordkeeping requirements.

8 CFR Part 274a

Administrative practice and procedure, Aliens, employment, Penalties Reporting and recordkeeping requirements.

Accordingly, chapter I of title 8 of the Code of Federal Regulations is amended as follows:

PART 212—DOCUMENTARY REQUIREMENTS: NONIMMIGRANTS; WAIVERS; ADMISSION OF CERTAIN INADMISSIBLE ALIENS; PAROLE

1. The authority citation for part 212 continues to read as follows:

Authority: 8 U.S.C. 1101, 1102, 1103, 1182, 1184, 1187, 1225, 1226, 1227, 1228, 1252; 8 CFR part 2.

2. Section 212.1 is amended by adding a new paragraph (n) to read as follows:

§ 212.1 Documentary requirements for nonimmigrants.

* * * * *

(n) Alien in Q-2 classification. Notwithstanding any of the provisions of this part, an alien seeking admission as a principal according to section 101(a)(15)(Q)(ii) of the Act must be in possession of a Certification Letter issued by the Department of State's Program Administrator documenting participation in the Irish peace process cultural and training programs.

PART 214—NONIMMIGRANT CLASSES

3. The authority citation for part 214 continues to read as follows:

Authority: 8 U.S.C. 1101, 1103, 1182, 1184, 1186a, 1187, 1221, 1281, 1282; 8 CFR part 2.

4. Section 214.1 is amended by:

a. Removing the word “and” at the end of paragraph (a)(1)(v);

b. Removing the period at the end of paragraph (a)(1)(vi) and adding in its place a “; and”;

c. Adding a new paragraph (a)(1)(vii);

d. Amending the table in paragraph (a)(2) by removing the entry for “101(a)(15)(Q)” and by adding the entries for “101(a)(15)(Q)(i)”, “101(a)(15)(Q)(ii)”, and “101(a)(15)(Q)(iii)” in proper numerical sequence;

e. Revising the heading of paragraph (b);

f. Adding a new paragraph (b)(4);

g. Revising the first sentence in paragraph (c)(1);

h. Removing the word “or” at the end of paragraph (c)(3)(v);

i. Removing the period at the end of paragraph (c)(3)(vi) and adding in its place a “; or”; and by

j. Adding a new paragraph (c)(3)(vii), to read as follows:

§ 214.1 Requirements for admission, extension, and maintenance of status.

(a) * * *

(1) * * *

(vii) Section 101(a)(15)(Q)(ii) is divided to create a (Q)(iii) for subclassification for the spouse and children of a nonimmigrant classified under section 101(a)(15)(Q)(ii) of the Act.

(2) * * *

Section | Designation
* * * * *
101(a)(15)(Q)(i) | Q-1.
101(a)(15)(Q)(ii) | Q-2.
101(a)(15)(Q)(iii) | Q-3.
* * * * *

* * * * *

(b) Readmission of nonimmigrants under section 101(a)(15) (F), (J), (M), or (Q)(ii) to complete unexpired periods of previous admission or extension of stay—* * *

* * * * *

(4) Section 101(a)(15)(Q)(ii). The inspecting immigration officer shall readmit for the unexpired period of stay authorized prior to the alien's departure, if the alien:

(i) Is admissible;

(ii) Is applying for readmission after an absence from the United States not exceeding 30 days solely in contiguous territory or adjacent islands;

(iii) Is in possession of a valid passport;

(iv) Presents, or is the accompanying spouse or child of an alien who presents, an Arrival-Departure Record, Form I-94, issued to the alien in connection with the previous admission or stay. The principal alien must also present a Certification Letter issued by the Department of State's Program Administrator.

(c) * * * (1) * * * An employer seeking the services of an E-1, E-2, H-1A, H-1B, H-2A, H-2B, H-3, L-1, O-1, O-2, P-1, P-2, P-3, Q-1, R-1, or TC nonimmigrant beyond the period previously granted, must petition for an extension of stay on Form I-129.* * *

* * * * *

(3) * * *

(vii) Any nonimmigrant who is classified according to section 101(a)(15)(Q)(ii) of the Act beyond a total of 3 years.

* * * * *

5. Section 214.2 is amended by:

a. Revising the heading of paragraph (q);

b. Redesignating paragraph (q)(1) as paragraph (q)(1)(iii);

c. Adding new paragraphs (q)(1)(i) and (q)(1)(ii);

d. Revising the heading of paragraphs (q)(2), (q)(5), (q)(6), and (q)(7);

e. Revising paragraph (q)(9)(i);

f. Adding two new sentences at the end of paragraph (q)(9)(ii);

g. Adding and reserving paragraphs (q)(12) through (q)(14); and by

h. Adding a new paragraph (q)(15), to read as follows:

§ 214.2 Special requirements for admission, extension, and maintenance of status.

* * * * *

(q) Cultural visitors—(1)(i) International cultural exchange visitors program. Paragraphs (q)(2) through (q)(11) of this section provide the rules governing nonimmigrant aliens who are visiting the United States temporarily in an international cultural exchange visitors program (Q-1).

(ii) Irish peace process cultural and training program. Paragraph (q)(15) of this section provides the rules governing nonimmigrant aliens who are visiting the United States temporarily under the Irish peace process cultural and training program (Q-2) and their dependents (Q-3).

* * * * *

(2) Admission of international cultural exchange visitor—* * *

(5) Filing of petitions for international cultural exchange visitor program—* * *

(6) Substitution or replacements of participants in an international cultural exchange visitor program—* * *

(7) Approval of petition for international cultural exchange visitor program—* * *

* * * * *

(9) * * * (i) General. The petitioner shall immediately notify the appropriate Service center of any changes in the employment of a participant which would affect eligibility under section 101(a)(15)(Q)(i) of the Act.

(ii) * * * No further action or notice by the Service is necessary in the case of automatic revocation. In any other case, the Service shall follow the revocation procedures in paragraphs (q)(9) (iii) through (v) of this section.

* * * * *

(12) (Reserved)

(13) (Reserved)

(14) (Reserved)

(15) Irish peace process cultural and training program visitors (Q-2) and their dependents (Q-3). (i) General. An Irish Peace Process Cultural and Training Program (IPPCTP) visitor is a nonimmigrant alien coming to the United States temporarily to gain or upgrade work skills through training and temporary employment and to experience living in a diverse and peaceful environment.

(ii) What are the requirements for participation? (A) The principal alien must have been physically resident in either Northern Ireland or the counties of Louth, Monaghan, Cavan, Leitrim, Sligo, and Donegal in the Republic of Ireland, for at least 3 months immediately preceding application to the program and must show that he or she has no intention of abandoning this residence.

(B) The principal alien must be between the ages of 18 and 35.

(C) The principal alien must:

(1) Be unemployed for at least 3 months, or have completed or currently be enrolled in a training/employment program sponsored by the Training and Employment Agency of Northern Ireland (T&EA) or by the Training and Employment Authority of Ireland (FAS), or by other such publicly funded programs, or have been made redundant from employment (i.e., lost their job), or have received a notice of redundancy (termination of employment); or

(2) Be a currently employed person whose employer has nominated him/her to participate in this program for additional training or job experience that is to benefit both the participant and his/her employer upon returning home.

(D) The principal alien must intend to come to the United States temporarily, for a period not to exceed 36 months, in order to obtain training, employment, and the experience of coexistence and conflict resolution in a diverse society.

(iii) Are there any limitations on admissions? (A) No more than 4,000 participants, including spouses and any minor children of principal aliens, may be admitted annually for 3 consecutive program years, beginning with FY 2000 (October 1, 1999, through September 30, 2000).

(B) For each alien admitted under section 101(a)(15)(Q)(ii) of the Act, the number of aliens admitted under section 101(a)(15)(H)(ii)(b) of the Act is reduced by one for that fiscal year or the subsequent fiscal year.

(C) This program expires on October 1, 2005.

(iv) What are the requirements for initial admission to the United States? (A) Principal aliens, their spouses, and minor children of principal aliens must present valid passports and either a Q-2 or Q-3 visa at the time of inspection.

(B) Initial admission for those principal and dependent aliens in this program who received their visas at either the U.S. Embassy in Dublin or the U.S. Consulate in Belfast must take place at the Service's Pre-Flight Inspection facilities at either the Shannon or Dublin airports in the Republic of Ireland.

(C) The principal alien will be required to present a Certification Letter issued by the Department of State's (DOS') Program Administrator documenting him or her as an individual selected for participation in the IPPCTP. Eligible dependents may be requested to present written documentation certifying their relationship to the principal.

(v) May the principal alien and dependents make brief visits outside the United States? (A) The principal alien, spouse, and any minor children of the principal alien may make brief departures, for periods not to exceed 3 consecutive months, and may be readmitted without having to obtain a new visa. However, such periods of time spent outside the United States will not be added to the end of stay, which is not to exceed a total of 3 years from the initial date of entry of the principal alien.

(B) Those participants or dependents who remain outside the United States in excess of 3 consecutive months will not be readmitted by the Service on their initial Q-2 or Q-3 visa. Instead, any such individual and eligible dependents wishing to rejoin the program will be required to reapply to the program and be in receipt of a new Q-2 or Q-3 visa and a Certification Letter issued by the DOS' Program Administrator, prior to any subsequent admission to the United States.

(vi) How long may a Q-2 or Q-3 visa holder remain in the United States under this program? (A) The principal alien and any accompanying, or following-to-join, spouse or minor children of the principal alien are admitted for the duration of the principal alien's planned cultural and training program or 36 months, whichever is shorter.

(B) Those participants and eligible dependents admitted for specific periods less than 36 months may extend their period of stay through the Service so that their total period of stay is 36 months, provided the extension of stay is related to employment or training certified by the DOS' Program Administrator.

(vii) How is employment authorized under this program? (A) Following endorsement of his/her Form I-94, Arrival-Departure Record, by a Service officer, any principal alien admitted under section 101(a)(15)(Q)(ii) of the Act is permitted to work for an employer or employers listed on the Certification Letter issued by the DOS' Program Administrator.

(B) The accompanying spouse and minor children of the principal alien may not accept employment, unless the spouse has also been designated as a principal alien (Q-2) in this program and has been issued a Certification Letter by the DOS' Program Administrator.

(viii) May the principal alien change employers? Principal aliens wishing to change employers must request such a change through the DOS' Program Administrator to the Service. Following review and consideration of the request by the Service, the Service will inform the participant of the decision. The Service will grant such approval of employers only if the new employer has been approved by DOS in accordance with its regulations and such approval is communicated to the Service through the DOS' Program Administrator. If approved, the participant's Form I-94 will be annotated to show the new employer. If denied, there is no appeal under this section.

(ix) May the principal alien hold other jobs during his/her U.S. visit? No; any principal alien classified as an Irish peace process cultural and training program visitor may only engage in employment that has been certified by the DOS' Program Administrator and approved by the DOS or the Service as endorsed on the Form I-94. An alien who engages in unauthorized employment violates the terms of the Q-2 visa and will be considered to have violated section 237(a)(1)(C)(i) of the Act.

(x) What happens if a principal alien loses his/her job? A principal alien, who loses his or her job, will have 30 days from his/her last date of employment to locate appropriate employment or training, to have the job offer certified by the DOS' Program Administrator in accordance with the DOS' regulations and to have it approved by the Service. If appropriate employment or training cannot be found within this 30-day-period, the principal alien and any accompany family members will be required to depart the United States.

§ 214.2 [Amended]

6. Section 214.2 is amended in newly redesignated paragraph (q)(1)(iii) under the definition of “Duration of program”, and in paragraph (q)(4)(iii), by revising the term “cultural exchange program” to read “international cultural exchange program”.

7. Section 214.2 is amended in the newly redesignated paragraph (q)(1)(iii) under the definition “International cultural exchange visitor or cultural visitor” by removing the term “or cultural visitor”.

8. Section 214.2 is amended by revising the term “a cultural visitor” to read “an international cultural exchange visitor” wherever that term appears in the following paragraphs:

a. Paragraph (q)(2)(i);

b. Paragraph (q)(2)(ii);

c. Paragraph (q)(3)(iv);(D);

d. Paragraph (q)(5)(v);

e. Paragraph (q)(10); and

f. Paragraph (q)(11)(ii).

9. Section 214.2 is amended by revising the term “cultural visitor's” to read “international cultural exchange visitor's” wherever that term appears in paragraphs (q)(3)(i), (q)(3)(iii)(B); (q)(3)(iii) (C), and (q)(6).

10. Section 214.2 is amended by revising the term “cultural visitors” to read “international cultural exchange visitors” wherever that term appears in paragraphs (q)(5)(i), (q)(8)(ii).

11. Section 214.2 is amended by revising the term “cultural visitors” to read “international cultural exchange visitors” to read “international cultural exchange visitors” in the heading of paragraph (q)(3)(iv).

12. Section 214.2 is amended by revising the term “cultural visitors” to read “international cultural exchange visitors” wherever that term appears in the following paragraphs:

a. Paragraph (q)(3)(iv) introductory text;

b. Paragraph (q)(4)(ii)(A);

c. Paragraph (q)(5)(iii), (q)(5)(iv), and (q)(5)(v);

d. Paragraph (q)(6); and

e. Paragraph (q)(9)(iii) (A)

13. Section 214.2 is amended by revising the reference “section 101(a)(15)(Q)” to read “section 101(a)(15)(Q)(i)” wherever that reference appears in the following paragraphs:

a. Newly redesignated paragraph (q)(1)(iii) under the definition “Qualified employer”

b. Paragraph (q)(2)(ii);

c. Paragraph (q)(5)(v);

d. Paragraph (q)(7)(iii) and (q)(7)(iv);

e. Paragraph (q)(10); and

f. Paragraph (q)(11)(i).

14. Section 214.2 is amended by revised the term “Q status” to read “Q-1 status” whenever that term appears in the following paragraphs:

a. Paragraph (q)(2)(i) and (q)(2)(ii); and

b. Paragraph (q)(3)(i) and (q)(3)(ii).

15. Section 214.2 is amended by revising the term “Q visa” to read “Q-1 visa” in paragraph (q)(5)(ii); and by revising the term “Q nonimmigrant” to read “Q-1 nonimmigrant” wherever that term appears in paragraph (q)(11)(i).

16. Section 214.2 is amended by revising the reference to “section 241(a)(1)(C)(i)” to read “section 237(a)(1)(C)(i)” in paragraph (q)(11)(i).

17. Section 214.2 is amended by revising the term “cultural visitors‘ ” to read “international cultural exchange visitors’ ” in paragraph (q)(4)(ii)(B).

PART 248—CHANGE OF NONIMMIGRANT CLASSIFICATION

18. The authority citation for part 248 continues to read to follows:

Authority: 8 U.S.C. 1101, 1103, 1184, 1187, 1258; 8 CFR part 2.

§ 248.3 [Amended]

19. In § 248.3, paragraph (a) is amended in the first sentence by revising the reference to “Q” to read “Q-1”.

20. Section 248.3 is amended by adding a new paragraph (d) and revising paragraph (e)(2) to read as follow:

§ 248.3 Application.

* * * * *

(d) Special provisions for change of nonimmigrant classification from Q-2 classification. Any alien classified as a Q-2 nonimmigrant, who requests a change to another nonimmigrant classification, must file Form I-539, with appropriate free, to the Nebraska Service Center. Any spouse or minor children of the principal alien who are in the United States and who are also classified as either Q-2 or Q-3 nonimmigrants may be included in the application.

(e) * * *

(2) An alien classified under sections 101(a)(15)A) or 101(a)(150(G) of the Act as a member of the immediate family of a principal alien classified under the same section, or an alien classified under sections 101(a) (15) (E), (F), (H), (I), (J), (L), (M), or (Q)(ii) of the Act as the spouse of child who accompanied or followed-to-join a principal alien who is classified under the same section, may attend school in the United States, as long as the immediate family member, spouse, or child continues to be qualified for and maintains the status under which the family member, spouse, or child is classified.

* * * * *

PART 274a—CONTROL OF EMPLOYMENT OF ALIENS

21. The authority citation for part 274a is revised to read as follows: Pub. L. 101-410, 104 Stat. 890, as amended by Pub. L. 104-134, 110 Stat. 1321;

Authority: 8 U.S.C. 1101, 1103, 1324a; 8 CFR part 2

22. Section 274a.12 is amended by:

a. Revising paragraph (b)(15); and

b. Adding a new paragraph (c)(23), to read as follows:

§ 274a.12 Classes of aliens authorized to accept employment.

* * * * *

(b) * * *

(15) An international cultural exchange visitor (Q-1), according to § 214.2(q)(1) of this chapter. An alien may only be employed by the petitioner through whom the status was obtained;

* * * * *

(c) * * *

(23) An Irish peace process cultural and training program visitor (Q-2), pursuant to § 214.2(q)(15) of this chapter and 22 CFR 41.57 and 22 CFR part 139. An alien in this status may only accept employment with the employer listed on the Certification Letter issued by the DOS' Program Administrator.

* * * * *

Dated: March 15, 2000.
Doris Meissner,
Commissioner, Immigration and Naturalization Service.

[FR Doc. 00-6818 Filed 3-16-00; 8:45 am]

BILLING CODE 4410-10-M